DEPARTMENT OF DEFENSE

Office of the Secretary

[Transmittal No. 19-12]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-12 with attached Policy Justification and Sensitivity of Technology.

Dated: July 22, 2019.
Aaron T. Siegel,
Alternate OSD Federal Register Liaison Officer, Department of Defense.

BILLING CODE 5001-06-P

BILLING CODE 5001-06-C

Transmittal No. 19-12

Notice of Proposed Issuance of Letter of Offer Pursuant to Section 36(b)(1) of the Arms Export Control Act, as amended

(i) Prospective Purchaser: Government of Australia

(ii) Total Estimated Value:

Major Defense Equipment * | $219.6 million
Other | $ 20.9 million
TOTAL | $240.5 million

(iii) Description and Quantity or Quantities of Articles or Services under Consideration for Purchase: The Government of Australia has requested to buy defense articles and services from the U.S. Government in support of the National Advanced Surface to Air Missile System (NASAMS).

Major Defense Equipment (MDE):

One hundred eight (108) AIM-120C-7 Advanced Medium-Range Air-to-Air Missiles (AMRAAM)

Six (6) AIM-120C-7 AMRAAM Air Vehicles Instrumented

Six (6) Spare AIM-120C-7 AMRAAM Guidance Sections

Non-MDE:

Also included are containers, weapon system support equipment, support and test equipment, site survey, transportation, repair and return warranties, spare and repair parts, publications and technical data, maintenance, personnel training, and training equipment, U.S. Government and contractor representative engineering, logistics, and technical support services, and other related elements of logistics support.

(iv) Military Department: Air Force (AT-D-YAI)

(v) Prior Related Cases, if any: AT-D-YLD

(vi) Sales Commission, Fee, etc., Paid, Offered, or Agreed to be Paid: None

(vii) Sensitivity of Technology Contained in the Defense Article or Defense Services Proposed to be Sold: See Attached Annex.

(viii) Date Report Delivered to Congress: March 12, 2019.

*As defined in Section 47(6) of the Arms Export Control Act.

POLICY JUSTIFICATION

Australia—AIM-120C-7 Advanced Medium-Range Air-to-Air Missiles

The Government of Australia has requested to buy up to 108 AIM-120C-7 Advanced Medium-Range Air-to-Air Missiles (AMRAAM); six (6) AIM-120C-7 AMRAAM Air Vehicles Instrumented; and six (6) spare AIM-120C-7 AMRAAM guidance sections. Also included are containers, weapon system support equipment, support and test equipment, site survey, transportation, repair and return warranties, spare and repair parts, publications and technical data, maintenance, personnel training, and training equipment, U.S. Government and contractor representative engineering, logistics, and technical support services, and other related elements of logistics support. These items are in support of Australia's purchase of the National Advanced Surface to Air Missile System (NASAMS). The estimated total program cost is $240.5 million.

This sale will support the foreign policy and national security of the United States by helping to improve the security of a major ally that is an important force for political stability and economic progress in the Western Pacific. It is vital to the U.S. national interest to assist our ally in developing and maintaining a strong and ready self-defense capability.

This proposed sale is in support of the Australian Defence Force (ADF) Project LAND 19 Phase 7B for acquisition of a ground based air and missile defense capability. Australia will have no difficulty absorbing this equipment into its armed forces.

The proposed sale of this equipment will not alter the basic military balance in the region.

The prime contractor will be Raytheon Missile Systems, Tucson, Arizona. There are no known offset arrangements proposed in connection with this potential sale.

Implementation of this proposed sale will not require the assignment of any additional U.S. Government or contractor representatives to Australia.

There will be no adverse impact on U.S. defense readiness as a result of this proposed sale.

Transmittal No. 19-12

Notice of Proposed Issuance of Letter of Offer Pursuant to Section 36(b)(1) of the Arms Export Control Act

Annex

Item No. vii

(vii) Sensitivity of Technology:

1. AIM-120C Advance Medium Range Air-to-Air (AMRAAM) is a radar guided missile featuring digital technology and micro-miniature solid-state electronics. AMRAAM capabilities include look-down/shoot-down, multiple launches against multiple targets, resistance to electronic counter measures, and interception of high flying and low flying and maneuvering targets. AIM-120 Captive Air Training Missiles are non-functioning, inert missile rounds used for armament load training, and which also simulates the correct weight and balance of live missiles during captive carry on training sorties. The AIM-120C-7, as employed in the National Advanced Surface-to-Air System (NASAMS), protects national assets from imminent hostile air threats. The AMRAAM All Up Round is classified CONFIDENTIAL, major components and subsystems range from UNCLASSIFIED to CONFIDENTIAL, and technology data and other documentation are classified up to SECRET.

2. If a technologically advanced adversary were to obtain knowledge of the specific hardware and software elements, the information could be used to develop countermeasures that might reduce weapon system effectiveness or be used in the development of a system with similar or advanced capabilities.

3. A determination has been made that Australia can provide substantially the same degree of protection for the sensitive technology being released as the U.S. Government. This sale is necessary in furtherance of the U.S. foreign policy and national security objectives outlined in the Policy Justification.

4. All defense articles and services listed in this transmittal are authorized for release and export to the Government of Australia.

[FR Doc. 2019-15855 Filed 7-25-19; 8:45 am]

BILLING CODE 5001-06-P